DEPARTMENT OF AGRICULTURE

Rural Utilities Service

Turning Point Solar LLC: Notice of Availability of an Environmental Assessment

AGENCY: Rural Utilities Service, USDA.

ACTION: Notice of Availability of an Environmental Assessment for Public Review.

SUMMARY: The Rural Utilities Service (RUS) has prepared an Environmental Assessment (EA) to meet its responsibilities under the National Environmental Policy Act (NEPA) and RUS's Environmental and Policies and Procedures (7 CFR part 1794) in relation to possible financial assistance for a proposal by Turning Point Solar LCC (TPS). The proposal consists of constructing a 49.9 megawatt (MW) ground-mounted solar photovoltaic generating facility in Noble County, Ohio. Turning Point Solar LLC is requesting that RUS provide a loan or loan guarantee for the proposal. RUS is considering funding this proposal, thereby making it an undertaking subject to review under Section 106 of the National Historic Preservation Act (NHPA), 16 USC 470(f), and its implementing regulation, “Protection of Historic Properties” (36 CFR part 800).

DATES: Written comments on this Notice must be received on or before March 2, 2012.

ADDRESSES: A copy of the EA may be viewed at the following RUS Web site: http://www.rurdev.usda.gov/UWP-ea.htm, and at the following repository: Caldwell Public Library, 517 Spruce Street, Caldwell, Ohio 43724-0230; Telephone: (740) 732-4506 for operating hours.

FOR FURTHER INFORMATION CONTACT: To obtain copies of the EA, to comment on the EA, or for further information, contact: Ms. Lauren McGee, Environmental Scientist, USDA/RUS, 1400 Independence Ave. SW., Room 2244-S, Stop 1571, Washington, DC 20250-1571, Telephone: (202) 720-1482, fax: (202) 690-0649, or email: lauren.mcgee@wdc.usda.gov.

SUPPLEMENTARY INFORMATION: Turning Point Solar LLC proposes to construct a 49.9 MW solar generating facility in Brookfield Township, Noble County, Ohio. The proposal involves the installation of high-efficiency monocrystalline photovoltaic panels mounted on fixed solar racking equipment and the construction of access roads, a powerhouse, transmission improvements, and other supporting facilities. The preferred site is located eight miles northwest of Caldwell, Ohio, on approximately 771 acres of reclaimed strip-mined land owned by Columbus Southern Power Company and Ohio Power Company, collectively American Electric Power Ohio (AEP Ohio). The land was mined by the Central Ohio Coal Company between 1969 and 1991, after which time it was reclaimed. The proposed generating facility would interconnect to AEP Ohio's South Cumberland 69kV substation, subject to completion of the Pennsylvania-New Jersey-Maryland (PJM) Generation Interconnection application process.

As part of its environmental review process, RUS must take into account the effect of the proposal on historic properties in accordance with section 106 of the National Historic Preservation Act and its implementing regulation, “Protection of Historic Properties” (36 CFR part 800). Pursuant to 36 CFR 800.2(d)(3), RUS is using its procedures for public involvement under NEPA to meet its responsibilities to solicit and consider the views of the public during Section 106 review. RUS has determined that no historic properties listed in or eligible for listing on the National Register of Historic Places (NRHP) will be affected by the proposal.

Alternatives considered by RUS and TPS include (a) no action, (b) project alternatives, and (c) project alternative sites. An environmental report that describes the proposal in detail and discusses its anticipated environmental impacts has been prepared by URS Corporation. RUS has reviewed and accepted the document as its EA of the proposal. The EA is available for public review at the addresses provided in this Notice. Questions and comments should be sent to RUS at the mailing or email addresses provided in this Notice. RUS should receive comments on the EA in writing by March 2, 2012 to ensure that they are considered in its environmental impact determination.

Should RUS, based on the EA of the proposal, determine that the impacts of the construction and operation of the proposal would not have a significant environmental impact, it will prepare a Finding of No Significant Impact. Public notification of a Finding of No Significant Impact would be published in newspapers with circulation in the proposal area. Any final action by RUS related to the proposal will be subject to, and contingent upon, compliance with all relevant Federal, State and local environmental laws and regulations, and completion of the environmental review requirements as prescribed in RUS's Environmental Policies and Procedures (7 CFR part 1794).

Dated: January 25, 2012.
Nivin Elgohary,
Assistant Administrator, Electric Programs, USDA, Rural Utilities Service.

[FR Doc. 2012-2203 Filed 1-31-12; 8:45 am]

BILLING CODE P